DEPARTMENT OF COMMERCE

International Trade Administration

[A-570-848]

Freshwater Crawfish Tail Meat from the People's Republic of China: Preliminary Notice of Intent to Rescind New Shipper Reviews

AGENCY: Import Administration, International Trade Administration, Department of Commerce.

SUMMARY: The Department of Commerce (“the Department”) is conducting new shipper reviews of the antidumping duty order on freshwater crawfish tail meat from the People's Republic of China (“PRC”) in response to requests from Jiangsu Jiushoutang Organisms-Manufacturers Co. Ltd. (“Jiangsu JOM”), Shanghai Sunbeauty Trading Co., Ltd. (“Shanghai Sunbeauty”), and Qingdao Wentai Trading Co. Ltd. (“Wentai”). The period of review (“POR”) is September 1, 2004, through February 28, 2005. We have preliminarily determined that the new shipper reviews of Jiangsu JOM, Shanghai Sunbeauty, and Wentai should all be rescinded because the sales made by each were not bona fide. Much of the information upon which we relied to analyze the bona fides of the sales is business proprietary; therefore, our full analysis is set forth in: Memorandum to James C. Doyle, Director, Office 9, from Scot T. Fullerton and Prentiss Lee Smith, Case Analysts, Office 9: Bona Fides Analysis and Intent to Rescind New Shipper Review of Freshwater Crawfish Tail Meat from the People's Republic of China for Jiangsu Jiushoutang Organisms-Manufactures Co., Ltd., dated February 23, 2006 (“Jiangsu JOM Memo”), Memorandum to James C. Doyle, Director, Office 9, from Scot T. Fullerton and Prentiss Lee Smith, Case Analysts, Office 9: Bona Fides Analysis and Intent to Rescind New Shipper Review of Freshwater Crawfish Tail Meat from the People's Republic of China for Shanghai Sunbeauty Trading Co. Ltd., dated February 23, 2006 (“Sunbeauty Memo”), and Memorandum to James C. Doyle, Director, Office 9, from Scot T. Fullerton and Prentiss Lee Smith, Case Analysts, Office 9: Bona Fides Analysis and Intent to Rescind New Shipper Review of Freshwater Crawfish Tail Meat from the People's Republic of China for Qingdao Wentai Trading Co. Ltd., dated February 23, 2006 (“Wentai Memo”), public versions of which are on file in the Central Records Unit, room B-099 of the main Commerce Building. Interested parties are invited to comment on this preliminary rescission determination.

EFFECTIVE DATE: March 2, 2006.

FOR FURTHER INFORMATION CONTACT: Scot Fullerton or P. Lee Smith, AD/CVD Operations, Office 9, Import Administration, International Trade Administration, U.S. Department of Commerce, 14th Street and Constitution Avenue, NW., Washington, DC 20230; telephone: (202) 482-1386 or (202) 482-1655, respectively.

SUPPLEMENTARY INFORMATION:

Background

On March 17, 2005, the Department received properly filed requests for a new shipper review, in accordance with section 751(a)(2)(B) of the Tariff Act of 1930 (“the Act”) and sections 351.214(b) and (c) of the Department's regulations, from Shanghai Sunbeauty and Jiangsu JOM under the antidumping duty order on freshwater crawfish tail meat from the PRC. On March 18, 2005, the Department received a properly filed request for a new shipper review, in accordance with section 751(a)(2)(B) of the Act and section 351.214(b) and (c) of the Department's regulations, from Wentai under the antidumping duty order on freshwater crawfish tail meat from the PRC.

The Department determined that the requests met the requirements stipulated in section 351.214 of the Department's regulations. On April 29, 2005, the Department published its initiation of these new shipper reviews for the period September 1, 2004, through February 28, 2004. See Freshwater Crawfish Tail Meat From the People's Republic of China: Initiation of New Shipper Antidumping Administrative Reviews, 70 FR 23987 (May 6, 2005).

On June 2, 2005, the Department received Jiangsu JOM, Shanghai Sunbeauty and Wentai's section A questionnaire responses. On June 22, 2005, the Department received Jiangsu JOM and Shanghai Sunbeauty's section C & D questionnaire responses. On June 30, 2005, the Department received Wentai's section C & D questionnaire responses. On July 21, 2005, the Department issued its first supplemental questionnaire to Jiangsu JOM and Shanghai Sunbeauty. On July 25, 2005, the Department issued its first supplemental questionnaire to Wentai. On August 12, 2005, Wentai submitted its response to the Department's first supplemental questionnaire. On August 17, 2005, Jiangsu JOM and Shanghai Sunbeauty submitted their responses to the Department's first supplemental questionnaire. On August 18, 2005, Jiangsu JOM submitted a supplement to their August 17, 2005, submission. On September 19, 2005, the Department issued its second supplemental questionnaire to Jiangsu JOM and Shanghai Sunbeauty. On September 20, 2005, the Department issued its second supplemental questionnaire to Wentai. On October 3, 2005, Jiangsu JOM and Shanghai Sunbeauty submitted their responses to the Department's second supplemental questionnaire. On October 5, 2005, Wentai submitted its response to the Department's second supplemental questionnaire. On October 21, 2005, the Department rejected Jiangsu JOM's response to the Department's second supplemental questionnaire. On October 26, 2005, Jiangsu JOM resubmitted its response to the Department's second supplemental questionnaire.

On October 14, 2005, the Department extended the due date for the preliminary results of this new shipper review by 120 days from the original October 26, 2005, deadline until February 23, 2005. See Freshwater Crawfish Tail Meat from the People's Republic of China: Notice of Extension of Time Limit of Preliminary Results of New Shipper Review, 70 FR 61117 (October 20, 2005).

From October 18 through October 21, 2005, the Department conducted verification of Jiangsu JOM's questionnaire responses at the company's facilities in Xinghua City, Jiangsu, China. See “Verification Report for Jiangsu JOM,” dated February 17, 2006. From January 23 through January 24, 2006, the Department conducted verification of Jiangsu JOM's affiliated U.S. importer, Easy River Seafood Corp. (“Easy River”), in Alhambra, CA. See “Verification Report for Easy River,” dated February 17, 2006.

From October 31 through November 1, 2005, the Department conducted verification of Shanghai Sunbeauty's questionnaire responses at the company's sales office in Shanghai, China. See “Verification Report for Shanghai Sunbeauty,” dated February 17, 2006. From November 3 through November 4, 2005, the Department conducted verification of Shanghai Sunbeauty's questionnaire responses relating to its producer for the POR, Wuwei Xinhua Food Co. Ltd. (“Wuwei Xinhua”), in Wuwei County, Anhui Province, China. See “Verification Report for Wuwei Xinhua,” dated February 21, 2006. From January 26 through January 27, 2006, the Department conducted verification of Shanghai Sunbeauty's affiliated importer, Seawind Inc. (“Seawind”), in Redmond, WA. See “Verification Report for Seawind,” dated February 17, 2006.

From January 19 through 20, 2006, the Department conducted verification of Qingdao Wentai's questionnaire responses at the company's facilities in Qingdao, Shandong Province, China. See “Verification Report for Qingdao Wentai,” dated February 17, 2006. The Department also conducted verification at the Qingdao Wentai's producer, Nanxian Shunxiang Aquatic Products Foodstuffs Co., Ltd.'s (“Shunxiang”) facilities, from January 16 to January 17, 2006. See “Verification Report for Nanxian Shunxiang,” dated February 17, 2006.

Scope of the Antidumping Duty Order

The product covered by this order is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 1605.40.10.10 and 1605.40.10.90, which are the new HTSUS numbers for prepared foodstuffs, indicating peeled crawfish tail meat and other, as introduced by the U.S. Customs Service in 2000, and HTSUS items 0306.19.00.10 and 0306.29.00, which are reserved for fish and crustaceans in general. The HTSUS subheadings are provided for convenience and Customs purposes only. The written description of the scope of this order is dispositive.

Preliminary Intent to Rescind

Concurrent with this notice, we are issuing our memoranda detailing our analysis of the bona fides of Jiangsu JOM, Shanghai Sunbeauty, and Wentai's U.S. sales and our preliminary decision to rescind based on the totality of the circumstances of the sales. Although much of the information relied upon by the Department to analyze the issues is business proprietary, the Department based its determination that the new shipper sale made by Jiangsu JOM was not bona fide on the following: (1) The price and quantity for Jiangsu JOM's sale of crawfish tail meat were atypical of its post-POR sales and of other exports from the PRC of the subject merchandise into the United States during the period of review, (2) the relationship between Jiangsu JOM, and other crawfish tail meat exporters and producers, (3) customer of the single POR sale as compared to subsequent sales, and (4) other indicia of a non-bona fide transaction. The Department based its determination that the new shipper sale made by Shanghai Sunbeauty was not bona fide on the following: (1) The price and quantity for Shanghai Sunbeauty's sale of crawfish tail meat were atypical of its post-POR sales and of other exports from the PRC of the subject merchandise into the United States during the period of review, (2) payment of Seawind's POR purchase and cash deposit, (3) source and timeliness of payment from the POR customer, and (4) other indicia of a non-bona fide transaction. The Department based its determination that the new shipper sale made by Wentai was not bona fide on the following: (1) The price and quantity for Wentai's sale of crawfish tail meat were atypical vis-a-vis other exports from the PRC of the subject merchandise into the United States during the period of review, (2) circumstances surrounding the sale and negotiation for the single POR sale, (3) exporter and producer's unreported business relationships, and (4) circumstances surrounding the formation of Wentai and Shunxiang.

Because the Department has found these sales to be non-bona fide they are not subject to review. See Jiangsu JOM Memo, Sunbeauty Memo, and Wentai Memo. Wentai, Shanghai Sunbeauty, and Jiangsu JOM each only made a single, non-bona fide sale during the POR. Therefore, the Department intends to rescind these reviews because there are no reviewable sales during the POR. See Tianjin Tiancheng Pharmaceutical Co., Ltd. v. United States, 366 F. Supp. 2d 1246, 1249 (CIT 2005).

Schedule for Final Results of Review

Unless otherwise notified by the Department, interested parties may submit case briefs within 30 days of the date of publication of this notice in accordance with § 351.309(c)(ii) of the Department's regulations. As part of the case brief, parties are encouraged to provide a summary of the arguments not to exceed five pages and a table of statutes, regulations, and cases cited. Rebuttal briefs, which must be limited to issues raised in the case briefs, must be filed within five days after the case brief is filed.

Any interested party may request a hearing within 30 days of publication of this notice in accordance with § 351.310(c) of the Department's regulations. Any hearing would normally be held 37 days after the publication of this notice, or the first workday thereafter, at the U.S. Department of Commerce, 14th Street and Constitution Avenue NW., Washington, DC 20230. Individuals who wish to request a hearing must submit a written request within 30 days of the publication of this notice in the Federal Register to the Assistant Secretary for Import Administration, U.S. Department of Commerce, Room 1870, 14th Street and Constitution Avenue, NW., Washington, DC 20230. Requests for a public hearing should contain: (1) The party's name, address, and telephone number; (2) the number of participants; and, (3) to the extent practicable, an identification of the arguments to be raised at the hearing. If a hearing is held, an interested party must limit its presentation only to arguments raised in its briefs. Parties should confirm by telephone the time, date, and place of the hearing 48 hours before the scheduled time.

The Department will issue the final results of this new shipper review, which will include the results of its analysis of issues raised in the briefs, within 90 days from the date of the preliminary results, unless the time limit is extended.

Notification

At the completion of this new shipper review, either with a final rescission or a notice of final results, the Department will notify the U.S. Customs and Border Protection that bonding is no longer permitted to fulfill security requirements for shipments by the exporter/producter combinations Jiangsu JOM, Shanghai Sunbeauty, and Wentai of freshwater crawfish tail meat from the PRC entered, or withdrawn from warehouse, for consumption on or after the publication of the final rescission or results notice in the Federal Register. If a final rescission notice is published, a cash deposit of 223.01 percent ad valorem shall be collected for any entries exported/produced by Jiangsu JOM, Shanghai Sunbeauty, and Wentai. Should the Department reach a final result other than a rescission, an appropriate antidumping duty rate will be calculated for both assessment and cash deposit purposes.

This notice also serves as the only reminder to parties subject to administrative protective orders (APO) of their responsibility concerning the disposition of proprietary information disclosed under APO in accordance with 19 CFR 351.305(a)(3). Timely written notification of the return/destruction of APO material or conversion to judicial protective order is hereby requested. Failure to comply with the regulations and terms of an APO is a violation which is subject to sanctions.

This new shipper review and this notice are published in accordance with sections 751(a)(2)(B) and 777(i)(1) of the Act.

Dated: February 23, 2006.
Joseph A. Spetrini,
Acting Assistant Secretary for Import Administration.

[FR Doc. E6-2967 Filed 3-1-06; 8:45 am]

BILLING CODE 3510-DS-S